DEPARTMENT OF HOMELAND SECURITY

U.S. Customs and Border Protection

Approval of Coastal Gulf and International (Corpus Christi, TX), as a Commercial Gauger

AGENCY: U.S. Customs and Border Protection, Department of Homeland Security.

ACTION: Notice of approval of Coastal Gulf and International (Corpus Christi, TX), as a commercial gauger.

SUMMARY: Notice is hereby given, pursuant to CBP regulations, that Coastal Gulf and International (Corpus Christi, TX), has been approved to gauge petroleum and certain petroleum products for customs purposes for the next three years as of August 7, 2018.

DATES: Coastal Gulf and International (Corpus Christi, TX) was approved, as a commercial gauger as of August 7, 2018. The next triennial inspection date will be scheduled for August 2021.

FOR FURTHER INFORMATION CONTACT: Dr. Justin Shey, Laboratories and Scientific Services Directorate, U.S. Customs and Border Protection, 1300 Pennsylvania Avenue NW, Suite 1500N, Washington, DC 20229, tel. 202-344-1060.

SUPPLEMENTARY INFORMATION: Notice is hereby given pursuant to 19 CFR 151.13, that Coastal Gulf and International, 4738 Neptune Dr., Corpus Christi, TX 78405 has been approved to gauge petroleum and certain petroleum products for customs purposes, in accordance with the provisions of 19 CFR 151.13. Coastal Gulf and International is approved for the following gauging procedures for petroleum and certain petroleum products from the American Petroleum Institute (API):

API chapters | Title
3 | Tank Gauging.
7 | Temperature Determination.
8 | Sampling.
12 | Calculations.
17 | Marine Measurement.

Anyone wishing to employ this entity to conduct gauger services should request and receive written assurances from the entity that it is approved by the U.S. Customs and Border Protection to conduct the specific gauger service requested. Alternatively, inquiries regarding the specific gauger service this entity is accredited or approved to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Dated: November 13, 2018.
Patricia Hawes Coleman,
Acting Executive Director, Laboratories and Scientific Services Directorate.

[FR Doc. 2018-25607 Filed 11-23-18; 8:45 am]

BILLING CODE 9111-14-P